DEPARTMENT OF ENERGY

Federal Energy Regulatory Commission

[Docket No. RP00-342-003]

MIGC, Inc.; Notice of Compliance Filing

May 30, 2003.

Take notice that on May 23, 2003, MIGC, Inc. (MIGC) tendered for filing as part of its FERC Gas Tariff, First Revised Volume No. 1, the following tariff sheets, to become effective May 1, 2003:

First Revised Sheet No. 30.

Sub First Revised Sheet No. 31.

Substitute First Revised Sheet No. 32.

Third Revised Sheet No. 33.

Original Sheet No. 33A.

Original Sheet No. 52B.

Fourth Revised Sheet No. 60.

Sub Original Sheet No. 60A.

Third Revised Sheet No. 61.

Fifth Revised Sheet No. 65.

Second Revised Sheet No. 66A.

Third Revised Sheet No. 69.

Substitute Third Revised Sheet No. 70.

Original Sheet No. 70A.

Second Revised Sheet No. 82.

Original Sheet No. 82A.

Fourth Revised Sheet No. 85.

First Revised Sheet No. 118.

First Revised Sheet No. 119.

MIGC asserts that the purpose of this filing is to comply with the Commission's order issued May 9, 2003, in Docket Nos. RP00-342-001 and RP00-342-002, to file actual tariff sheets reflecting certain revisions to its August 10, 2001 and September 12, 2001 filings in compliance with Order No. 637.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 4, 2003.

Magalie R. Salas,
Secretary.

[FR Doc. 03-14236 Filed 6-5-03; 8:45 am]

BILLING CODE 6717-01-P